DEPARTMENT OF COMMERCE

Foreign-Trade Zones Board

[Docket 60-2008]

Foreign-Trade Zone 267 Fargo, North Dakota, Amendment to Request for Manufacturing Authority, CNH America, LLC (Construction and Agricultural Equipment), Fargo, North Dakota

A request has been submitted to the Foreign-Trade Zones Board (the Board) by the Fargo Municipal Airport Authority, grantee of FTZ 267, to amend its request for manufacturing authority (construction and agricultural equipment) under FTZ procedures at the manufacturing facilities of CNH America, LLC (CNH) within FTZ 267 Site 2.

CNH is now requesting to include additional components to produce the same products (construction wheel loaders and farm tractors) as described in the original Federal Register notice (73 FR 54137, 9/18/2008). The additional foreign-sourced components include tubes, hoses and hose assemblies, tires, seals, decals, c-cap posts, handles, insulation foam, vulcanized rubber profiles, o-rings, bellows, plugs, insulator blocks, mat protectors, agricultural machinery parts, glass, mirrors, ground cables, pins, racks, engines, axial piston pumps, turbochargers, air filters, air cleaners, arm rests, track frames, axles, steps, modules, brushes, engine badge cases, hinges, brackets, fuel injection pumps, viscous couplings, machinery parts, camshafts, transmissions, mufflers, clutches, steering wheel columns, locking tabs, linings, clutches, couplings, shields, gaskets, valves, motors, convertors, rings, tail lamps, wiper blades, antennas, flasher units, switches, boxes, electric connectors, connector snap plugs, headlamps, potentiometers, temperature senders and machinery parts. Duty rates range between 0% and 8.5%.

Public comment is invited from interested parties. Submissions (original and 3 copies) shall be addressed to the Board's Executive Secretary at the address below. The closing period for their receipt is May 27, 2009. Rebuttal comments in response to material submitted during the foregoing period may be submitted during the subsequent 15-day period to June 11, 2009.

A copy of the request will be available for public inspection at the Office of the Executive Secretary, Foreign-Trade Zones Board, Room 2111, U.S. Department of Commerce, 1401 Constitution Avenue, NW, Washington, DC 20230-0002, and in the “Reading Room” section of the Board's website, which is accessible via http://www.trade.gov/ftz. For further information, contact Diane Finver at Diane_Finver@ita.doc.gov, or (202) 482-1367.

Dated: April 17, 2009.
Andrew McGilvray,
Executive Secretary.

[FR Doc. E9-9545 Filed 4-27-09; 8:45 am]

BILLING CODE 3510-DS-S